FEDERAL ELECTION COMMISSION

Sunshine Act Meeting

FEDERAL REGISTER CITATION NOTICE OF PREVIOUS ANNOUNCEMENT: 87 FR 41125.

PREVIOUSLY ANNOUNCED TIME, DATE, AND PLACE OF THE MEETING: Thursday, July 14, 2022 at 10 a.m., hybrid meeting: 1050 First Street NE, Washington, DC (12th floor) and virtual.

CHANGES IN THE MEETING: The following matter was also considered:

Draft Advisory Opinion 2022-14: Google LLC (Extension of Comment Period)

CONTACT PERSON FOR MORE INFORMATION: Judith Ingram, Press Officer, Telephone: (202) 694-1220.

Authority: Government in the Sunshine Act, 5 U.S.C. 552b

Vicktoria J. Allen,
Acting Deputy Secretary of the Commission.

[FR Doc. 2022-15494 Filed 7-15-22; 4:15 pm]

BILLING CODE 6715-01-P